DEPARTMENT OF JUSTICE

Notice of Lodging of Amendment to Consent Decree Under the Clean Air Act

Under 28 CFR 50.7, notice is hereby given that on June 16, 2003, a proposed First Amendment to Consent Decree in United States v. Conoco Inc., Civil Action No. H-01-4430, was lodged with the United States District Court for the Southern District of Texas. The proposed amendment addresses several issues, primarily the change in ownership of the Denver refinery, which is being sold to Suncor Energy (U.S.A.) Inc. It also addresses changes to the requirements of the catalyst additive trials at the Conoco facilities, adjustment to emission reduction totals for heaters and boilers, and modification of certain emission monitoring requirements.

In this action the United States sought civil penalties and injunctive relief against Conoco Inc. (“Conoco”) pursuant to section 113(b) of the Clean Air Act (“CAA”), 42 U.S.C. 7413(b) (1983), amended by, 42 U.S.C. 7413(b) (Supp. 1991), alleged violations at Conoco's four refineries in Colorado, Montana, Oklahoma and Louisiana.

The Department of Justice will receive for a period of thirty (30) days from the date of this publication comments relating to the First Amendment to Consent Decree. Comments should be addressed to the Assistant Attorney General, Environment and Natural Resources Division, P.O. Box 7611, U.S. Department of Justice, Washington, DC 20044-7611, and should refer to: United States v. Conoco Inc., D.J. Ref. 90-5-2-1-07295/1.

The Consent Decree may be examined at the Office of the United States Attorney, Southern District of Texas, U.S. Courthouse, 515 Rusk, Houston, Texas 77002, and at EPA Region 6, 1445 Ross Avenue, Dallas, Texas 75202. During the public comment period the First Amendment to Consent Decree may also be examined on the following Department of Justice Web site, http://www.usdoj.gov/enrd/open.html. A copy of the First Amendment to Consent Decree, may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.75 (25 cents per page reproduction cost) payable to the U.S. Treasury.

Catherine McCabe,
Deputy Chief, Environmental Enforcement Section, Environment and Natural Resources Division.

[FR Doc. 03-16073 Filed 6-24-03; 8:45 am]

BILLING CODE 4410-15-M